CORPORATION FOR NATIONAL AND COMMUNITY SERVICE

Proposed Information Collection: Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its AmeriCorps Volunteer Generation Survey. Copies of the information collection requests can be obtained by contacting the office listed below in the address section of this notice.

The Corporation is particularly interested in comments which:

• Evaluate whether the proposed collection of information is necessary for the proper performance of the functions of the Corporation, including whether the information will have practical utility;

• Evaluate the accuracy of the Corporation's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

DATES: Written comments must be submitted to the office listed in the ADDRESSES section by February 1, 2002.

ADDRESSES: Send comments to the Corporation for National and Community Service, Office of Evaluation, Attn: Chuck Helfer, 1201 New York Avenue, NW., Washington, DC 20525.

FOR FURTHER INFORMATION CONTACT: Chuck Helfer, (202) 606-5000, ext. 248.

SUPPLEMENTARY INFORMATION:

AmeriCorps Volunteer Generation Study

I. Background

The three AmeriCorps programs of the Corporation (AmeriCorps*State/National, National Civilian Community Corps (NCCC) and Volunteers In Service To America (VISTA)) depend on volunteers to help link program activities to individuals and institutions in the communities served by AmeriCorps. Each program plans and implements its own volunteer mobilization and deployment strategies. Volunteer mobilization includes volunteer position development, recruitment, screening, and training. Deployment includes management (i.e. placement, scheduling, coordination, record keeping, volunteer/paid staff relations), recognition and development of appropriate volunteer policies and procedures.

II. Current Action

The Corporation seeks to evaluate the volunteer mobilization and deployment practices and outcomes of AmeriCorps programs. The evaluation will determine the extent to which the mobilization and deployment of local volunteers is meeting AmeriCorps goals for community strengthening and getting things done and AmeriCorps programs are engaging in effective volunteer mobilization and deployment practices. The evaluation will entail mail survey of approximately 1500 surveys to program/project directors and/or site staff. The Corporation will use the data collected through these activities to help programs and projects improve their volunteer-related practices.

Type of Review: New collection.

Agency: Corporation for National and Community Service.

Title: AmeriCorps Volunteer Generation Study.

OMB Number: None.

Agency Number: None.

Affected Public: AmeriCorps program staff, members, volunteers, and other stakeholders.

Total Respondents: 1500 survey respondents.

Frequency: One time.

Average Time Per Response: 45 minutes.

Estimated Total Burden Hours: 1125 hours (survey).

Total Burden Cost (capital/startup): 0.

Total Burden Cost (operating/maintenance): 0.

Comments submitted in response to this notice will be summarized and/or included in the request for Office of Management and Budget approval of the information collection request; they will also become a matter of public record.

Dated: November 27, 2001.
David B. Rymph,
Acting Director, Department of Evaluation and Effective Practices.

[FR Doc. 01-29842 Filed 11-30-01; 8:45 am]

BILLING CODE 6050-$$-P